DEPARTMENT OF TRANSPORTATION

Federal Highway Administration

23 CFR Part 650

[FHWA Docket No. FHWA-2017-0047]

RIN 2125-AF55

National Bridge Inspection Standards

AGENCY: Federal Highway Administration (FHWA), U.S. Department of Transportation (DOT).

ACTION: Notice of proposed rulemaking; extension of comment period.

SUMMARY: The FHWA is extending the comment period for a notice of proposed rulemaking (NPRM) and request for comments, which was published on November 12, 2019. The original comment period is set to close on January 13, 2020. The extension is based on FHWA's desire to allow interested parties sufficient time to review and provide comprehensive comments on this NPRM. Therefore, the closing date for comments is changed to March 13, 2020, which will provide those interested in commenting additional time to discuss, evaluate, and submit responses to the docket.

DATES: The comment period for the proposed rule published November 12, 2019, at 84 FR 61494, is extended. Comments must be received on or before March 13, 2020.

ADDRESSES: Mail or hand deliver comments to the U.S. Department of Transportation, Dockets Management Facility, 1200 New Jersey Avenue SE, Washington, DC 20590, or submit electronically at http://www.regulations.gov. All comments should include the docket number that appears in the heading of this document. All comments received will be available for examination and copying at the above address from 9 a.m. to 5 p.m., e.t., Monday through Friday, except Federal holidays. Those desiring notification of receipt of comments must include a self-addressed, stamped postcard or may print the acknowledgment page that appears after submitting comments electronically. Anyone is able to search the electronic form of all comments received into any of our dockets by the name of the individual submitting the comment (or signing the comment, if submitted on behalf of an association, business, labor union, etc.). You may review DOT's complete Privacy Act Statement in the Federal Register published on April 11, 2000 (Volume 65, Number 70, Pages 19477-78) or you may visit http://www.regulations.gov.

FOR FURTHER INFORMATION CONTACT: Mr. John Thiel, P.E., Office of Bridges and Structures, HIBS-30, (202) 366-8795, or Mr. William Winne, Office of the Chief Counsel, HCC-30, (202) 366-1397, Federal Highway Administration, 1200 New Jersey Avenue SE, Washington, DC 20590.

SUPPLEMENTARY INFORMATION:

Electronic Access and Filing

You may submit or access all comments received by DOT online through: http://www.regulations.gov. Electronic submission and retrieval help and guidelines are available on the website. It is available 24 hours each day, 365 days each year. Please follow the instructions. An electronic copy of this document may also be downloaded from the Federal Register's home page at: http://www.federalregister.gov.

Background

On November 12, 2019, at 84 FR 61494, FHWA published in the Federal Register an NPRM proposing to update the National Bridge Inspection Standards (NBIS). Through this NPRM, FHWA proposes to update the NBIS to address the Moving Ahead for Progress in the 21st Century Act requirements, incorporate technological advancements including the use of unmanned aerial systems, and address ambiguities identified since the last update to the regulation in 2009. The FHWA also proposes to repeal two outdated regulations: The Highway Bridge Replacement and Rehabilitation Program and the Discretionary Bridge Candidate Rating Factor.

The original comment period for the NPRM closes on January 13, 2020. The FHWA believes that this closing date may not provide sufficient time to review and provide comprehensive comments. The extension is in the public interest based on FHWA's desire to allow interested parties sufficient time to review and provide comprehensive comments on this NPRM. To allow the public to submit comprehensive comments, the closing date is changed from January 13, 2020, to March 13, 2020.

Authority: 23 U.S.C. 119, 144, and 315.

Issued on: January 7, 2020.
Nicole R. Nason,
Administrator, Federal Highway Administration.

[FR Doc. 2020-00315 Filed 1-10-20; 8:45 am]

BILLING CODE 4910-22-P